FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

Argyle Customs and Forwarding, LLC (NVO & OFF), 1410 West Ganson Street, Jackson, MI 49201, Officer: Gregory D. Chevalier, Member/Member (QI), Application Type: New NVO & OFF License.

Arrow Logistics Services, Inc. (NVO), 7900 NW. 68th Street, Miami, FL 33166, Officers: Ernesto O. Del Riego, Vice President (QI), Erich M. Bendixen, President, Application Type: New NVO License.

Braid Logistics (North America), LLC (NVO & OFF), 365 Canal Street, Suite 1100, New Orleans, LA 70130, Officers: John J. Lyons, Vice President (QI), Christopher White, Member, Application Type: New NVO & OFF License.

Clare Freight Int'l (U.S.A.), Inc. (NVO), 177-14 149th Road, 2nd Floor, Jamaica, NY 11434, Officers: Claire Moachi Lee, President (QI), John Lee, Application Type: QI Change.

Confianca Logistics LLC (NVO), 11700 NW. 102nd Road, Suite 16, Medley, FL 33178, Officers: Rodrigo Stegani, Manager (QI), Mauro Do Nascimento Do Almeida, Manager, Application Type: New NVO License.

Damco International B.V. dba Damco dba Damco Maritime dba Damco Sea and Air (NVO), Turfmarkt 107, 2511 DP Den Haag, Netherlands, Officers: James Percival, Compliance Officer (QI), Morten Englestoft, Director, Application Type: New NVO License.

DJS International Services, Inc. (NVO & OFF), 4215 Gateway Drive, Suite 100, Colleyville, TX 76034, Officers: David M. Meyer, Vice President (QI), Melissa S. Meyer, Treasurer, Application Type: Additional QI.

Global Logistics Services, Inc. (NVO & OFF), 9667 NW. 33rd Street, Miami, FL 33172, Officers: Ana Conlan, Vice President (QI), Edward Boroski, CEO, Application Type: Name Change to EWC Ocean Services, Inc.

Global Vision Group, Inc. (NVO & OFF), 2227 Salisbury Highway, Statesville, NC 28677, Officers: Steven P. Murphy, Assistant Vice President (QI), Jeff B. Harvey, President, Application Type: QI Change.

Latin Link Logistics, LLC (NVO & OFF), 10405 NW. 37th Terrace, Miami, FL 33178, Officer: Shariff Gonnella, President (QI), Application Type: QI Change.

Marinex Logistics LLC (NVO & OFF), 11 Chimney Ridge Court, Washington TWP, NJ 07676, Officer: Alp Kosi, President (QI), Application Type: New NVO & OFF License.

Rand Whitney Packaging Corp dba Horn International Forwarding (NVO), 580 Fort Pond Road, Lancaster, MA 01523, Officers: Michael V. Yost, Vice President (QI), Nicholas Smith, President, Application Type: New NVO License.

Rodawi International Corp. (NVO & OFF), 6384 NW. 99th Avenue, Miami, FL 33178, Officer: Rosa Rodriguez, President (QI), Application Type: New NVO & OFF License.

SCT Worldwide Logistics LLC (NVO & OFF), 1300 Andrea Drive, Waycross, GA 31501, Officer: Steven C. Thornton, Managing Member (QI), Application Type: New NVO & OFF License.

Siati Express Inc. (NVO & OFF), 6117 NW. 72nd Avenue, Miami, FL 33166, Officers: Jose F. Banderas, Vice President (QI), Byron F. Mora, President, Application Type: New NVO & OFF License.

St. Blue & Co., Inc. (NVO), 21023 Main Street, Unit A, Carson, CA 90745, Officer: Sammy Son, President (QI), Application Type: Add Trade Name AP Logistics.

Transcarveca, U.S.A. Corp. (OFF), 2510 NW. 97th Avenue, Suite 120, Miami, FL 33172, Officer: Luis A. Fuenmayor, President (QI), Application Type: Add Trade Name Teamfreight Forwarding Company.

Transitnow LLC (NVO), 26 W. Linden Ave., Suite #3, Linden, NJ 07036, Officers: David Menteshashvili, Member (QI), Avtandil Mikeladze, General Manager, Application Type: New NVO License.

United Liberty Express Co. Inc. dba United Liberty Express (NVO), 201-3701 East Hastings Street, Burnaby, V5C 2H6, Canada, Officers: Dmitry Zhdanov, Director (QI), Anastasia Zhdanova, Director, Application Type: New NVO License.

World Cargo Solutions LLC dba World Cargo Lines (NVO & OFF), 1926 Rankin Road, Suite 100, Houston, TX 77073, Officers: Jacob Mathew, Managing Member (QI), Jitendra Prasad, Managing Member, Application Type: New NVO & OFF License.

By the Commission.
Dated: June 13, 2014.
Karen V. Gregory,
Secretary.

[FR Doc. 2014-14257 Filed 6-17-14; 8:45 am]

BILLING CODE 6730-01-P